DEPARTMENT OF JUSTICE

Antitrust Division

Notice Pursuant to the National Cooperative Research and Production Act of 1993—National Biodiesel Accreditation Commission (“NBAC”)

Notice is hereby given that, on August 27, 2004, pursuant to section 6(a) of the National Cooperative Research and Production Act of 1993, 15 U.S.C. 4301 et seq. (“the Act”), National Biodiesel Accreditation Commission (“NBAC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances. Pursuant to Section 6(b) of the Act, the name and principal place of business of the standards development organization is National Biodiesel Accreditation Commission, Jefferson City, MO. The nature and scope of the NBAC's standards development activities are the administration of a certification program for both the manufacturers and marketers of biodiesel, both neat and blended. Certification by the NBAC indicates the applicant possesses and implements a quality assurance/quality control program meeting the Commission's requirements.

Dorothy B. Fountain,
Deputy Director of Operations, Antitrust Division.

[FR Doc. 04-22153 Filed 10-1-04; 8:45 am]

BILLING CODE 4410-11-M